DEPARTMENT OF AGRICULTURE

Agricultural Marketing Service

7 CFR Part 900

[Docket No. FV03-900-1 EXT]

Proposed Rule To Exempt Organic Producers and Marketers From Assessments for Market Promotion Activities Under Marketing Order Programs

AGENCY: Agricultural Marketing Service, USDA.

ACTION: Proposed rule; extension of comment period.

SUMMARY: Notice is hereby given that the comment period on the proposal to exempt producers and marketers from assessments for marketing promotion activities under marketing order programs is extended.

DATES: Comments must be received by February 2, 2004.

ADDRESSES: Interested persons are invited to submit written comments concerning this proposal. Comments must be sent to the Docket Clerk, Marketing Order Administration Branch, Fruit and Vegetable Programs, AMS, USDA, 1400 Independence Avenue SW., STOP 0237, Washington, DC 20250-0237, Fax: (202) 720-8938, or E-mail: moab.docketclerk@usda.gov. Comments should reference the docket number and the date and page number of this issue of the Federal Register. All comments received will be available for public inspection in the Office of the Docket Clerk at the Marketing Order Administration Branch, AMS, USDA, 1400 Independence Avenue, SW., STOP 0237, Washington, DC 20250-0237 during regular business hours, or can be viewed at: http://www.ams.usda.gov/fv/moab.html.

FOR FURTHER INFORMATION CONTACT: George Kelhart or Jay Guerber, Marketing Order Administration Branch, Fruit and Vegetable Programs, AMS, USDA, 1400 Independence Avenue SW., STOP 0237, Washington, DC 20250-0237; Telephone: (202) 720-2491, Fax: (202) 720-8938.

Small businesses may request information on compliance with this proposed regulation by contacting: Jay Guerber, Marketing Order Information Branch, Fruit and Vegetable Programs, AMS, USDA, 1400 Independence Avenue SW., STOP 0237, Washington, DC 20250-0237; Telephone: (202) 720-2491, Fax: (202) 720-5698, or E-mail: Jay.Guerber@usda.gov.

SUPPLEMENTARY INFORMATION: The proposed rule on the exemption of organic producers and marketers from assessments for market promotion activities under marketing orders was published in the Federal Register on December 2, 2003 (68 FR 67381). The proposed rule invited comments through January 2, 2004.

The Executive Director of the Organic Trade Association requested, in consideration of the holiday season, that the comment period be extended thirty days to provide ample time for a thorough review and to ensure that those most likely to be affected by the proposed rule have the opportunity to calculate the impact.

An extension would provide interested persons more time to review and assess the proposed rule's impacts. Therefore, USDA is extending the period in which to file written comments until February 2, 2004. This notice is issued pursuant to the Agricultural Marketing Agreement Act of 1937 and the Farm Security and Rural Investment Act (Pub. L. 107-171).

Authority: 7 U.S.C. 601-674 and 7 U.S.C. 7401.

Dated: December 22, 2003.
Kenneth C. Clayton,
Associate Administrator, Agricultural Marketing Service.

[FR Doc. 03-31945 Filed 12-23-03; 10:27 am]

BILLING CODE 3410-02-P